DEPARTMENT OF LABOR

Employment and Training Administration

[TA-W-52, 218]

Giddings & Lewis, Fond Du Lac, WI; Notice of Termination of Investigation

Pursuant to Section 221 of the Trade Act of 1974, as amended, an investigation was initiated on July 2, 2003 in response to a petition filed by a company official on behalf of workers at Giddings & Lewis LLC, Fond du Lac, Wisconsin.

The petitioning group of workers is covered by an active certification issued on August 14, 2001 and which remains in effect (TA-W-38826). Consequently, further investigation in this case would serve no purpose, and the investigation has been terminated.

Signed at Washington, DC this 7th day of July, 2003.
Linda G. Poole,
Certifying Officer, Division of Trade Adjustment Assistance.

[FR Doc. 03-18549 Filed 7-21-03; 8:45 am]

BILLING CODE 4510-30-P